DEPARTMENT OF THE TREASURY

Internal Revenue Service

26 CFR Part 1

[TD 10040]

RIN 1545-BQ95

Tribal General Welfare Benefits; Correction

AGENCY: Internal Revenue Service (IRS), Treasury.

ACTION: Final rule; correction.

SUMMARY: This document contains corrections to TD 10040, which was published in the Federal Register on Tuesday, December 16, 2025. TD 10040 contains final regulations regarding the exclusion from gross income of certain Tribal general welfare benefits.

DATES: The corrections are effective January 16, 2026. For the applicability dates of the final regulations see § 1.139E-1(h).

FOR FURTHER INFORMATION CONTACT: Jonathan A. Dunlap at (202) 317-4718 (not a toll-free number).

SUPPLEMENTARY INFORMATION:

Background

The final regulations (TD 10040) that are the subject of these corrections are under sections 139E, 7872, and 7805(a) of the Internal Revenue Code.

Correction of Publication

Accordingly, FR Doc. 2025-22873 (TD 10040), appearing on page 58378 in the Federal Register on Tuesday, December 16, 2025, is corrected as follows:

1. On page 58378, in the first column, in the DATES section, the Applicability date paragraph is corrected to read “Applicability date: For dates of applicability see § 1.139E-1(h).”

2. On page 58394, in the second column, in the second full paragraph, the twelfth line up from the bottom of the paragraph is corrected to read “training and education for internal”.

Kalle L. Wardlow,
Federal Register Liaison, Publications & Regulations Section, Associate Chief Counsel, (Procedure and Administration).

[FR Doc. 2026-00835 Filed 1-15-26; 8:45 am]

BILLING CODE 4831-GV-P